DEPARTMENT OF LABOR

Employment and Training Administration

Notice of Determinations Regarding Eligibility To Apply for Worker Adjustment Assistance

In accordance with Section 223 of the Trade Act of 1974, as amended, (19 U.S.C. 2273), the Department of Labor herein presents summaries of determinations regarding eligibility to apply for trade adjustment assistance for workers (TA-W) number and alternative trade adjustment assistance (ATAA) by (TA-W) number issued during the periods of October 2005.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.) (increased imports) and (a)(2)(B)(II.B) (No shift in production to a foreign country) have not been met.

TA-W 57,866; Consolidated Metco, Inc., Clackamas, OR.

TA-W 57,867; Capital City Press, Inc., Barre, VT.

TA-W 57,914; Honeywell, Columbia, SC.

TA-W 57,930; Cabinet Industries, Inc., Danville, PA.

TA-W 57,945; PolyVision Corporation, Clymer, PA.

TA-W 57,945A; PolyVision Corporation, Dixonville, PA.

TA-W 58,023; Fairchild Semiconductor, West Jordan, UT.

TA-W 58,087; Bucillo Corp., Hazleton, PA.

The investigation revealed that criteria (a)(2)(A)(I.B.) (Sales or production, or both, did not decline) and (a)(2)(B)(II.B) (No shift in production to a foreign country) have not been met.

TA-W 57,934; Arkay Plastics Illinois, Inc., Div. of Arkay Industries, Inc., Paris, IL.

TA-W 57,982; Powder Processing and Technology, LLC, Valparaiso, IN.

TA-W 58,013; Spectrum Yarns, Inc., Kings Mountain, NC.

TA-W 58,024; Black Hawk Products Group, Hayesville, NC.

The investigation revealed that criterion (a)(2)(A)(I.A) and (a)(2)(B)(II.A) (no employment decline) has not been met.

TA-W 57,865; IBM Global Services, Subsidiary of IBM Corp., Boulder, CO.

TA-W 57,903; Hewlett Packard, Design Delivery Organization (DDO), San Diego, CA.

TA-W 57,943; Henredon Furniture Industries, Inc., Morganton, NC.

The workers firm does not produce an article as required for certification under Section 222 of the Trade Act of 1974.

TA-W 57,890; Pillowtex Corporation, Kannapolis, NC.

TA-W 57,890A; Pillowtex Corporation, Richardson, TX.

TA-W 57,940; Ryder Integrated Logistics, Webster, NY.

TA-W 57,988; Express Point Technology Services, Inc., Golden Valley, MN.

TA-W 58,028; Cat Logistics, Portland, TN.

The investigation revealed that criteria (a)(2)(A)(I.C.) (Increased imports and (a)(2)(B)(II.C) (has shifted production to a foreign country) have not been met.

TA-W 57,917; Ultra Clean Technology, Menlo Park, CA.

The investigation revealed that criteria (2) has not been met. The workers firm (or subdivision) is not a supplier or downstream producer to trade-affected companies.

None

Affirmative Determinations for Worker Adjustment Assistance

The following certifications have been issued; the date following the company name and location of each determination references the impact date for all workers of such determination.

The following certifications have been issued. The requirements of (a)(2)(A) (increased imports) of Section 222 have been met.

TA-W 57,894; New Fortune Garment Manufacturing Co., Oakland, CA: August 31, 2004.

TA-W 58,050; Masterbuilt Manufacturing, Inc., Columbus, GA: September 8, 2004.

TA-W 57,878; Solutia, Inc., Decatur, AL: September 23, 2005.

TA-W 57,886; LSM Manufacturing Co., Inc., Waterbury, CT: September 2, 2004.

TA-W 57,898; BESI, Inc., East Div., Vevay, IN: September 6, 2004.

TA-W 57,899; Janef, Inc., t/a Mayflower t/a Alperin, Old Forge, PA: September 7, 2004.

TA-W 57,918; Williams Wood Carving, Inc., Hickory, NC: September 7, 2004.

TA-W 57,921; Mohawk Home, Div. of Mohawk Industries, Inc., Bentonville, AR: September 9, 2004.

TA-W 57,924; Nepera, Div. of Rutherford Chemical, Harriman, NY: September 9, 2004.

TA-W 57,935; Jeff Hamilton Collections, Los Angeles, CA: September 1, 2004.

TA-W 57,949; C&W Hosiery, Inc., Ft. Payne, AL: September 12, 2004.

TA-W 57,951; Laymon Hughes Hos., LLC, Ft. Payne, AL: September 12, 2004.

TA-W 57,964; Corlett-Turner Company, Zeeland, MI: September 14, 2004.

TA-W 57,990; Sun Look Garment, Inc., San Francisco, CA: September 20, 2004.

TA-W 57,998; Allied Industries Co., dba Duralux, Beulaville, NC: September 12, 2004.

TA-W 58,026; Premier Fibers, Asheboro, NC: September 23, 2004.

TA-W 58030; Holt Hosiery Mills, Finishing, Burlington, NC: September 9, 2004.

TA-W 58039; Liberty Fibers Corporation, Subsidiary of Silva Holdings, Inc., Lowland, TN: September 27, 2004.

TA-W 58122; Select Staffing, Inc., Tiercon Industries, Caro, MI: September 27, 2004.

The following certifications have been issued. The requirements of (a)(2)(B) (shift in production) of Section 222 have been met.

TA-W 57,915; ICU Medical, Vernon, CT; August 29, 2004.

TA-W 57,958; Sanmina-SCI, Bothell Ultrasound Div., Bothell, WA: September 12, 2004.

TA-W 57,962; Steelcase, Inc. North America Steel—Grand Rapids Div., Grand Rapids, MI: October 15, 2005.

TA-W 57,978; B.A.G. Corp., Div. of Super Sack Bag, Inc., Savoy, TX: September 15, 2004.

TA-W 57,979; Eaton Corp., EAMD Marshall Annex Marshall, MI: September 16, 2004.

TA-W 57,993; Solectron USA, Inc., (formerly known as SHINEI USA), Hillsboro, OR: 6/18, 2005.

TA-W 57,996; Beverage Air, Div. of Carrier Corporation, Spartanburg, SC: September 20, 2004.

TA-W 58,016; Child Craft Industries, Inc., New Salisbury, IN: September 12, 2004.

TA-W 58,042; A.D.H. Manufacturing Corp., Etowah, TN: September 26, 2004.

TA-W 58,052; Suez Energy Generation North America, Trigen Biopower Greenwood Div., Hodges, SC: September 26, 2004.

TA-W 58,057; Emerson Motor Technologies, Industrial Motor Div., Kennett, MO: September 30, 2004.

TA-W 58,064; VF Jeanswear Limited Partnership, Subsidiary of VF Corporation, Greensboro, NC: October 15, 2004.

TA-W 58,088; Twin Rivers Technologies, Inc., Subsidiary of Twin Rivers Technology, LP, Painesville, OH: October 6, 2004.

TA-W 58,093; Tenneco Automotive, Monroe Div., Hartwell, GA: October 7, 2004.

The following certification has been issued. The requirement of supplier to a trade certified firm has been met.

TA-W 57,953; Ocean Breeze Manufacturing, Vernon, CA: September 13, 2004.

TA-W 58,054; Arca Knitting, Inc., Hialeah, FL: September 29, 2004.

The following certification has been issued. The requirement of downstream producer to a trade certified firm has been met.

None

Negative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

In the following cases, it has been determined that the requirements of Section 246(a)3)ii) have not been met for the reasons specified.

The Department has determined that criterion (2) of Section 246 has not been met. Workers at the firm possess skills that are easily transferable.

TA-W 57,958; Sanmina-SCI, Bothell Ultrasound Div., Bothell, WA.

The Department has determined that criterion (1) of Section 246 has not been met. Workers at the firm are 50 years of age or older.

None

Since the workers are denied eligibility to apply for TAA, the workers cannot be certified eligible for ATAA.

TA-W 57,943; Henredon Furniture Industries, Inc., Morganton, NC.

TA-W 57,934; Arkay Plastics Illinois, Inc., Paris, IL.

TA-W 58,013; Spectrum Yarns, Inc., Kings Mountain, NC.

TA-W 57,866; Consolidated Metco, Inc., Clackamas, OR.

TA-W 57,914; Honeywell, Columbia, SC.

TA-W 57,930; Cabinet Industries, Inc., Danville, PA.

TA-W 57,945; PolyVision Corporation, Clymer, PA.

TA-W 57,945A; PolyVision Corporation, Dixonville, PA.

TA-W 58,023; Fairchild Semiconductor, West Jordan, UT.

TA-W 58,087; Bucillo Corp., Hazleton, PA.

TA-W 57,867; Capital City Press, Inc., Barre, VT.

TA-W 57,917; Ultra Clean Technology, Menlo Park, CA.

TA-W 58,024; Black Hawk Products Group, Hayesville, NC.

TA-W 57,890; Pillowtex Corporation, Kannapolis, NC.

TA-W 57,890A; Pillowtex Corporation, Richardson, TX.

TA-W 57,988; Express Point Technology Services, Inc., Golden Valley, MN.

TA-W 58,028; Cat Logistics, Portland, TN.

The Department has determined that criterion (3) of Section 246 has not been met. Competition conditions within the workers' industry are not adverse.

None

Affirmative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W 57,878; Solutia, Inc., Decatur, AL: September 23, 2005.

TA-W 57,886; LSM Manufacturing Co., Inc., Waterbury, CT: September 2, 2004.

TA-W 57,898; BESI, Inc., East Div., Vevay, IN: September 6, 2004.

TA-W 57,899; Janef, Inc., t/a Mayflower t/a Alperin, Old Forge, PA: October 4, 2005.

TA-W 57,915; ICU Medical, Vernon, CT; August 29, 2004.

TA-W 57,918, Williams Wood Carving, Inc., Hickory, NC: September 7, 2004.

TA-W 57,921; Mohawk Home, Div. of Mohawk Industries, Inc., Bentonville, AR: September 9, 2004.

TA-W 57,924; Nepera, Div. of Rutherford Chemical, Harriman, NY: September 9, 2004.

TA-W 57,935; Jeff Hamilton Collections, Los Angeles, CA: September 1, 2004.

TA-W 57,949; C&W Hosiery, Inc., Ft. Payne, AL; September 12, 2004.

TA-W 57,951; Laymon Hughes Hos., LLC, Ft. Payne, AL: September 12, 2004.

TA-W 57,962; Steelcase, Inc., North America Steel—Grand Rapids Div., Grand Rapids, MI: October 15, 2005.

TA-W 57,964; Corlett-Turner Company, Zeeland, MI: September 14, 2004.

TA-W 57,978; B.A.G. Corp., Div. of Super Sack Bag, Inc., Savoy, TX: September 15, 2004.

TA-W 57,979; Eaton Corp., EAMD Marshall Annex, Marshall, MI: September 16, 2004.

TA-W 57,990; Sun Look Garment, Inc., San Francisco, CA: September 20, 2004.

TA-W 57,993; Solectron USA, Inc., (formerly known as SHINEI USA), Hillsboro, OR: June 18, 2005.

TA-W 57,996; Beverage Air, Div. of Carrier Corporation, Spartanburg, SC; September 20, 2004.

TA-W 57,998; Allied Industries Co., dba Duralux, Beulaville, NC: September 12, 2004.

TA-W 58,016; Child Craft Industries, Inc., New Salisbury, IN: September 12, 2004.

TA-W 58,026; Premiere Fibers, Asheboro, NC: September 23, 2004.

TA-W 58,030; Holt Hosiery Mills, Finishing, Burlington, NC: September 9, 2004.

TA-W 58,039; Liberty Fibers Corporation, Subsidiary of Silva Holdings, Inc., Lowland, TN; September 27, 2004.

TA-W 58,042; A.D.H. Manufacturing Corp., Etowah, TN: September 26, 2004.

TA-W 58,052; Suez Energy Generation North America, Trigen Biopower Greenwood Div., Hodges, SC: September 26, 2004.

I hereby certify that the aforementioned determinations were issued during the month of October 2005. Copies of these determinations are available for inspection in Room C-5311, U.S. Department of Labor, 200 Constitution Avenue, NW., Washington, DC 20210 during normal business hours or will be mailed to persons who write to the above address.

Dated: November 2, 2005.
Erica R. Cantor,
Director, Division of Trade Adjustment Assistance.

[FR Doc. 05-22325 Filed 11-8-05; 8:45 am]

BILLING CODE 4510-30-P